DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held June 25, 2003 starting at 9 am.

ADDRESSES: The meeting will be held at RTCA, Inc., 1828 L Street, NW., Suite 805, Washington, DC, 20036.

FOR FURTHER INFORMATION CONTACT: RTCA Secretariat, 1828 L Street, NW., Suite 850, Washington, DC, 20036; telephone (202) 833-9339; fax (202) 833-9434; Web site http://www.rtea.org.

SUPPLEMENTARY INFORMATION: Pursuant to section 10(a)(2) of the Federal Advisory Committee Act (Pub. L. 92-463, 5 U.S.C., Appendix 2), notice is hereby given for a Program Management Committee meeting. The revised agenda will include:

• June 25:

• Opening Session (Welcome and Introductory Remarks, Review/Approve Summary of Previous Meeting)

• Publication Consideration/Approval:

• Final Draft, Plans and Principles for the Implementation of Aeronautical Data Link System (ADLS) Edition 1. Aeronautical Telecommunications Network (ATN) Baseline 1, RTCA Paper No. 083-03/PMC-277, prepared by SC-194

• Final Draft, NEXCOM Plan, US National Airspace System (NAS) Plan for Transition to Air/Ground ICAO VDL Mode 3 Based Integrated Voice and Data Communications, RTCA Paper No. 067-03/PMC-274, prepared by SC-198.

• Final Draft, Change 1 to DO-284, Next Generation Air/Ground Communications system (NEXCOM) Safety and Performance Requirements (SPR), RTCA Paper No. 097-03/PMC-278, prepared by SC-198.

• Final Draft, Revised DO-257—Minimum Operational Performance Standards for the Depiction of Navigational Information on Electronic Maps, RTCA Paper No. 114-03/PMC-282, prepared by SC-181.

• Discussion:

• Special Committee 202, Portable Electronic Devices

• Update Terms of Reference

• special Committee Chairman's Reports

• Action Item Review:

• Review/Status—All open action items

• Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 9, 2003.
Janice L. Peters,
FAA Special Assistant, RTCA Advisory Committee.

[FR Doc. 03-15961 Filed 6-23-03; 8:45 am]

BILLING CODE 4910-13-M